DEPARTMENT OF ENERGY

Federal Energy Regulatory Commission

[Docket No. CP02-24-000]

PG&E Gas Transmission, Northwest Corporation; Notice of Application

November 16, 2001.

Take notice that on November 9, 2001, PG&E Gas Transmission, Northwest Corporation (PG&E) filed an application pursuant to Section 7(c) of the Natural Gas Act and Part 157 of the Commission's Regulations for a certificate of public convenience and necessity authorizing PG&E to construct a total of 53.6 miles of 42-inch diameter loop of its existing mainline system in Boundary County in Idaho, and Spokane, Whitman, and Walla Walla Counties in Washington, and Umatilla County in Oregon and to increse system compression by adding 19,500 ISO hp of compression at one existing compressor station (Station 14) in Klamath County, Oregon, all as more fully set forth in the application that is on file with the Commission and open to public inspection. Copies of this filing are on file with the Commission and are available for public inspection. This filing may be viewed on the Web at http://www.ferc.gov using the “RIMS” link, select “Docket#” and follow the instructions (call 202-208-2222 for assistance).

PG&E proposes this project to increase its system capacity by approximately 143,000 dekatherms per day (Dth/d) of annual pipeline capacity and by 20,000 Dth/d of winter only capacity. PG&E estimates that the cost of the facilities is estimated to be approximately $111.3 million, which it states will be financed using internally-generated funds. PG&E proposes to install the looping and compression facilities in order to provide the additional transportation service by November 2003 or sooner. PG&E requests Commission approval by December 31, 2002, at the latest, in order to complete the installation of the proposed facilities in time for the 2003/2004 winter heating season.

PG&E states that it held an open season in which it made capacity on its system available to interested shippers on a not unduly discriminatory basis. PG&E states that as a result it has executed binding, long term precedent agreements for a total of 143,000 Dth/d of annual service and 20,000 Dth/d of winter-only service for terms averaging 25.3 years with five shippers to serve new electric generation projects and other uses in the Pacific Northwest and California. This represents 100% of the proposed expansion capacity. PG&E states that these precedent agreements demonstrate that there is sufficient market demand for natural gas transportation service on PG&E's system to support this project.

Any questions regarding the application should be directed to John A. Roscher, Director, Rates and Regulatory Affairs, PG&E Gas Transmission, Northwest Corporation; 1400 SW Fifth Avenue, Suite 900; Portland, Oregon; 97201, (503) 833-4254.

There are two ways to become involved in the Commission's review of this project. First, any person wishing to obtain legal status by becoming a party to the proceedings for this project should, on or before December 7, 2001, file with the Federal Energy Regulatory Commission, 888 First Street, NE, Washington, D.C. 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. The preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests, and interventions may be filed electronically via the Internet in lieu of paper. See, 18 CFR 385.2001(a)(1)(iii) and the instructions on the Commission's Web site under the “e-Filing” link.

If the Commission decides to set the application for a formal hearing before an Administrative Law Judge, the Commission will issue another notice describing that process. At the end of the Commission's review process, a final Commission order approving or denying a certificate will be issued.

David P. Boergers,
Secretary.

[FR Doc. 01-29239 Filed 11-21-01; 8:45 am]

BILLING CODE 6717-01-P